DEPARTMENT OF THE TREASURY

Internal Revenue Service

Open Meeting of the Area 5 Taxpayer Advocacy Panel (Including the States of Iowa, Kansas, Minnesota, Missouri, Nebraska, North Dakota, Oklahoma, South Dakota, and Texas)

AGENCY: Internal Revenue Service (IRS) Treasury.

ACTION: Notice.

SUMMARY: An open meeting of the Area 5 Taxpayer Advocacy Panel will be conducted. The Taxpayer Advocacy Panel is soliciting public comment, ideas, and suggestions on improving customer service at the Internal Revenue Service.

DATES: The meeting will be held Monday, August 23, 2004, 8 a.m. to 3 p.m., and Tuesday, August 24, 8 to 11:30 a.m., central daylight time.

FOR FURTHER INFORMATION CONTACT: Audrey Jenkins at 1-888-912-1227, or (718) 488-2085.

SUPPLEMENTARY INFORMATION: Notice is hereby given pursuant to Section 10(a)(2) of the Federal Advisory Committee Act, 5 U.S.C. App. (1988) that a meeting of the Area 5 Taxpayer Advocacy Panel will be held Monday, August 23, 2004, 8 a.m. to 3 p.m., and Tuesday, August 24, 8 to 11:30 a.m., central daylight time, at the Country Inn & Suites Mall of America, 2221 Killebrew Drive, Bloomington, MN, 55425. You can submit written comments to the panel by faxing to (718) 488-2062, or by mail to Taxpayer Advocacy Panel, 10 Metro Tech Center, 625 Fulton Street, Brooklyn, NY 11201, or you can contact us at http://www.improveirs.org. This meeting is not required to be open to the public, but because we are always interested in community input, we will accept public comments. Please contact Audrey Jenkins at 1-888-912-1227 or (718) 488-2085 for more information.

The agenda will include the following: Various IRS issues.

Dated: July 22, 2004.
Bernard Coston,
Director, Taxpayer Advocacy Panel.

[FR Doc. 04-17089 Filed 7-26-04; 8:45 am]

BILLING CODE 4830-01-P